DEPARTMENT OF EDUCATION

Applications for New Award; Technical Assistance To Improve State Data Capacity—National Technical Assistance Center To Improve State Capacity To Accurately Collect and Report IDEA Data

AGENCY: Office of Special Education and Rehabilitative Services, Department of Education.

ACTION: Notice.

Overview Information

Technical Assistance to Improve State Data Capacity—National Technical Assistance Center to Improve State Capacity to Accurately Collect and Report IDEA Data Notice inviting applications for a new award for fiscal year (FY) 2013.

Catalog of Federal Domestic Assistance (CFDA) Number: 84.373Y.

DATES:

Application Available: May 20, 2013.

Deadline for Transmittal of Applications: July 19, 2013.

Deadline for Intergovernmental Review: September 17, 2013.

Full Text of Announcement

I. Funding Opportunity Description

Purpose of Program: The purpose of the Technical Assistance to Improve State Data Capacity program is to improve the capacity of States to meet their Individuals with Disabilities Education Act (IDEA) data collection and reporting requirements under sections 616 and 618 of the IDEA. Funding for the program is authorized under section 611(c)(1) of the IDEA, which gives the Secretary the authority to reserve funds appropriated under section 611 of the IDEA to provide technical assistance (TA) authorized under section 616(i) of the IDEA. Section 616(i) requires the Secretary to review the data collection and analysis capacity of States to ensure that data and information determined necessary for implementation of sections 616 and 618 of the IDEA are collected, analyzed, and accurately reported. It also requires the Secretary to provide TA, where needed, to improve the capacity of States to meet the data collection requirements under the IDEA.

Priority: This priority is from the notice of final priority for this program, published elsewhere in this issue of the Federal Register.

Absolute Priority: For FY 2013 and any subsequent year in which we make awards from the list of unfunded applicants from this competition, this priority is an absolute priority. Under 34 CFR 75.105(c)(3), we consider only applications that meet this priority.

This priority is:

National Technical Assistance Center To Improve State Capacity To Accurately Collect and Report IDEA Data

The purpose of this priority is to fund a cooperative agreement to support the establishment and operation of a National Technical Assistance Center to Improve State Capacity to Accurately Collect and Report IDEA Data (Data Center). The Data Center will provide TA to improve the capacity of States to meet IDEA data collection and reporting requirements by:

(a) Improving data infrastructure by coordinating and promoting communication and effective data governance strategies among relevant State offices including State educational agencies (SEAs) and State lead agencies, local educational agencies (LEAs), schools, early intervention service (EIS) providers, and TA providers to improve the quality of the IDEA data;

(b) Using results from the Department's auto-generated error reports to communicate with State IDEA Data Managers and other relevant stakeholders in the State (e.g., EDFacts Coordinator) about data that appear to be inaccurate and provide support to the State (as needed) to enhance current State validation procedures to prevent future errors in State-reported IDEA data;

(c) Using the results of the Department's review of State-reported data to help States ensure that data are collected and reported from all programs providing special education and related services within the State;

(d) Addressing personnel training needs by developing effective informational tools (e.g., training modules) and resources (e.g., cross-walk documents about IDEA and non-IDEA data elements) about data collection and reporting requirements that States can use to train personnel in schools, programs, agencies, and districts;

(e) Supporting States in submitting data into EDFacts by coordinating with EDFacts TA providers (i.e., Partner Support Center; see www2.ed.gov/about/inits/ed/edfacts/support.html) about IDEA-specific data reporting requirements and providing EDFacts reports and TA to States to help them improve the accuracy of their IDEA data submissions;

(f) Improving IDEA data validation by using results from data reviews conducted by the Department to work with States to generate tools (e.g., templates of data dashboards) that can be used by States to accurately communicate data to local data-consumer groups (e.g., school boards, the general public) and lead to improvements in the validity and reliability of data required by IDEA; and

(g) Using results from the Department's review of State-reported Annual Performance Report (APR) data to provide intensive and individualized TA to improve the accuracy of qualitative information provided in the APR about the State's efforts to improve its implementation of the requirements and purposes of IDEA, and to more accurately target its future improvement activities.

The TA provided by the Data Center must be directed at all relevant parties within a State that can affect the quality of IDEA data and must not be limited to State special education or early intervention offices. The Data Center's TA must primarily target data issues identified through the Department's review of IDEA data. TA needs can also be identified by a State's review of IDEA data or other relevant means, but TA must be based on an identified need related to improving IDEA data accuracy or timeliness. Effectiveness of the Data Center's TA will be demonstrated through changes in a State's capacity to collect and report valid and reliable IDEA data and resolve identified data issues.

Funding for the Data Center is authorized under section 611(c)(1) of the IDEA, which gives the Secretary the authority to reserve funds appropriated under section 611 of the IDEA to provide TA authorized under section 616(i) of the IDEA. Section 616(i) requires the Secretary to review the data collection and analysis capacity of States to ensure that data and information determined necessary for implementation of sections 616 and 618 of the IDEA are collected, analyzed, and accurately reported. It also requires the Secretary to provide TA, where needed, to improve the capacity of States to meet the data collection requirements under the IDEA.

To be considered for funding under this absolute priority, applicants must meet the application requirements contained in this priority. Any project funded under this priority also must meet the programmatic and administrative requirements specified in the priority.

Application Requirements. An applicant must include in its application—

(a) A logic model that depicts, at a minimum, the goals, activities, outputs, and outcomes of the project. A logic model communicates how a project will achieve its outcomes and provides a framework for both the formative and summative evaluations of the project;

Note: The following Web site provides more information on logic models and lists multiple online resources: www.cdc.gov/eval/resources/index.htm;

(b) A plan to implement the activities described in the Project Activities section of this priority;

(c) A plan, linked to the project's logic model, for a formative evaluation of the project's activities. The plan must describe how the formative evaluation will use clear performance objectives to ensure continuous improvement in the operation of the project, including objective measures of progress in implementing the project and ensuring the quality of products and services;

(d) A budget for a summative evaluation to be conducted by an independent third party;

(e) A budget for attendance at the following:

(1) A one and one-half day kick-off meeting to be held in Washington, DC, after receipt of the award, and an annual planning meeting held in Washington, DC, with the Office of Special Education Programs (OSEP) project officer and other relevant staff during each subsequent year of the project period.

Note: Within 30 days of receipt of the award, a post-award teleconference must be held between the OSEP project officer and the grantee's project director or other authorized representative;

(2) A three-day project directors' conference in Washington, DC, during each year of the project period;

(3) A three-day data conference up to twice each year in Washington, DC, and planned by the National Center for Education Statistics (NCES) for data professionals from all levels of government to discuss technical and policy issues related to the collection, maintenance, and use of education data, new evidence-based practices related to data, and Department initiatives about data collection and reporting, during each year of the project period;

(4) A one-day intensive review meeting that will be held in Washington, DC, during the last half of the second year of the project period; and

(5) Up to 36 days per year on-site at the Department to participate in meetings about IDEA data; meet with EDFacts staff, as appropriate; conduct conference sessions with program staff from States, LEAs, schools, EIS providers, and other local programs that contribute to the State data system to meet IDEA data collection requirements (e.g., NCES conferences); coordinate TA activities with other Department TA initiatives including, but not limited to, the Privacy TA Center (see www2.ed.gov/policy/gen/guid/ptac/index.html), Statewide Longitudinal Database Systems TA (see http://nces.ed.gov/programs/slds/), Implementation and Support Unit TA (see www2.ed.gov/about/inits/ed/implementation-support-unit/index.html), and EDFacts Partner Support Center (see www2.ed.gov/about/inits/ed/edfacts/support.html); and attend other meetings as requested by OSEP; and

(f) A line item in the budget for an annual set-aside of four percent of the grant amount to support emerging needs that are consistent with the project's activities, as those needs are identified in consultation with OSEP.

Note: With approval from the OSEP project officer, the Data Center must reallocate any remaining funds from this annual set-aside no later than the end of the third quarter of each budget period.

Project Activities. To meet the requirements of this priority, the Data Center, at a minimum, must conduct the following activities:

Technology and Tools

(a) Assist relevant parties in the State in the development of data validation procedures and tools; and

(b) Assist States in creating or enhancing TA tools that build local staff capacity to accurately collect and report data under IDEA Parts B and C that is required to be reported to the Department and the public under sections 616 and 618 of the IDEA (e.g., reviewing current State training efforts and consulting with the SEA or State lead agency about materials and methods to improve efficiency or effectiveness of State training strategies); tools must be designed to improve the capacity of States to meet IDEA data requirements.

TA and Dissemination Activities

(a) Provide TA to State data submitters and local data collectors on various data quality issues; topics must include summaries of data quality issues evident from data reviews that will be primarily conducted by the Department; as appropriate, technology should be used to convey information efficiently and effectively (e.g., webinars);

(b) Develop an agenda for information sessions, which can be conducted at conferences or through webinars, specific to required IDEA data and submit the agenda for approval by OSEP. The purpose of the sessions is to ensure that State IDEA Data Managers have current knowledge and tools to collect, analyze, and accurately report IDEA data to the Department and gain new knowledge and tools that can be used to build data capacity at the local level;

(c) Provide a range of general and targeted TA products and services ¹ on evidence-based practices that result in valid and reliable data and build the capacity of data collectors to collect valid and reliable data (e.g., State IDEA Data Manager training webinars for newly hired staff, white papers, technical briefs, review of data systems for usability improvements); all TA must improve the capacity of States to meet IDEA data requirements; all TA inquiries and responses must be recorded and be accessible to the OSEP project officer;

¹ For information about universal/general, targeted/specialized, and intensive/sustained TA, see https://tacc-epic.s3.amazonaws.com/uploads/site/162/ConceptFrmwrkLModel%2BDefsAug2012.pdf?AWSAccessKeyId=AKIAIMS3GHWZEDKKDRDQ&Expires=1367515628&Signature=8o%2FKA2BtZN3JjV1KS2ZIj1xUHhA%3D.

(d) Conduct approximately eight intensive on-site TA visits each year focused on improving the capacity of States to meet IDEA data requirements. Visits should be distributed among Part C and Part B programs based on need and consultation with OSEP. On-site TA visits should be coordinated with other Department on-site visits (e.g., EDFacts, OSEP monitoring), to the extent that coordination will lead to improvements in the collection, analysis, and accurate reporting of IDEA Part B data at the school, LEA, and State levels and of IDEA Part C data by EIS providers and at the EIS program and State levels. All intensive TA visits should include State IDEA Data Managers, EDFacts Coordinators (as appropriate), and other relevant State parties. TA activities should emphasize building staff or data system capacity at State and local levels. Intensive TA may include a broad range of activities to meet the needs of each State. For example, an intensive TA activity may include the review of the data systems used by the State to identify system usability improvements to increase data use and data quality. The TA visits may include local data collectors or reporters, such as representatives from local EIS providers, and must focus on: (1) Resolving an identified data validity issue or system capacity issue; (2) achieving measurable outcomes; and (3) “mapping” the relationship of the data validity issue or system capacity issue with other IDEA data elements that are likely to be affected by the data validity issue or system capacity issue;

(e) Plan and conduct data analytic workshops for local data collectors and reporters, which can be conducted at conferences or through webinars, to improve the capacity of States to meet IDEA data collection requirements. The workshops must target interdisciplinary teams of professionals from a small group of LEAs or EIS providers from each participating State to analyze the validity of data about a targeted issue relevant to infants, toddlers, children, or students with disabilities (e.g., ensuring consistency in data reporting on outcomes in all local programs in the State) and lead to plans that can be used by the EIS providers or LEAs to improve their IDEA data collection and reporting, as well as inform State-level data quality initiatives;

(f) Maintain a Web site that meets government or industry-recognized standards for accessibility and is targeted to local and State data collectors. TA material developed by the Data Center, including the results of analyses conducted to improve State capacity to collect and report IDEA data, may be posted on the Data Center site. Note that the Department will post IDEA section 618 data collection instructions (e.g., EDFacts file specifications) on www.ed.gov/edfacts and will publish IDEA section 618 data on a *.gov Web site (e.g., www.data.gov/education);

(g) Support States in verifying the accuracy and completeness of IDEA data prior to submission to the Department through activities such as data analyses, including ensuring that data are consistent with data about students with disabilities reported in other data collections (e.g., ensure that counts of students with disabilities reported to meet IDEA reporting requirements align appropriately with counts reported for other Federal programs); analytic activities must be linked to improving State capacity to meet the IDEA data collection requirements;

(h) Solicit and compile State recommendations for automated data validation procedures that can be built into EDFacts to support States in submitting accurate data. Examples include business rules that would prevent States from submitting invalid data (e.g., greater than 100 percent of assessment participants scoring proficient) and alerts that would ask the States to verify the accuracy of improbable data prior to completion of the submission (e.g., no data where non-zero counts are expected);

(i) Prepare and disseminate topical reports, documents, and other materials that support States in meeting IDEA data collection and reporting requirements;

(j) Develop guidance documents and tools for States to use to communicate with local data collectors and reporters about new or changing data requirements; the Data Center should communicate with States using current technology; and

(k) Support States in meeting APR submission requirements, including by—

(1) As needed, evaluating sampling plans developed by States to report APR data based on a sample of districts, schools, or EIS providers;

(2) Evaluating the quality, accuracy, and validity of State Performance Plan (SPP) and APR quantitative data; and

(3) Using results from the Department's review of APR data to support States in their analyses of available data so that States can provide accurate qualitative information to the Department about their efforts to meet the requirements and purposes of the IDEA, and to more accurately target future improvement activities in their SPPs and APRs.

Leadership and Coordination Activities

(a) Consult with representatives from State and local educational agencies and State Part C lead agencies and EIS providers; school or district administrators; IDEA data collectors; data system staff responsible for IDEA data quality; data system management or data governance staff; and other consumers of State-reported IDEA data and informed stakeholders, as appropriate, on TA needs of stakeholders as they relate to the activities and outcomes of the Data Center, and provide a list of these representatives to OSEP within eight weeks of receiving its grant award notice. For this purpose, the Data Center may convene meetings, whether in person, by phone, or other means, or may consult with people individually about the activities and outcomes of the Data Center;

(b) Communicate and coordinate, on an ongoing basis, with other Department-funded projects to: (1) Develop products to improve data collection capacity (e.g., What Works Clearinghouse); (2) support State monitoring of IDEA implementation through data use; and (3) develop and disseminate resources about data privacy issues (e.g., Privacy TA Center; see www.ed.gov/ptac); and

(c) Maintain ongoing communication with the OSEP project officer.

Fourth and Fifth Years of the Project

In deciding whether to continue funding the project for the fourth and fifth years, the Secretary will consider the requirements of 34 CFR 75.253(a), and in addition—

(a) The recommendation of a review team consisting of experts selected by the Secretary. This review will be conducted during a one-day intensive meeting in Washington, DC, that will be held during the last half of the second year of the project period;

(b) The timeliness and effectiveness with which all requirements of the negotiated cooperative agreement have been or are being met by the project; and

(c) The quality, relevance, and usefulness of the project's activities and products and the degree to which the project's activities and products have contributed to changed practice and improved State capacity to collect and report high-quality data required under sections 616 and 618 of the IDEA.

Program Authority: 20 U.S.C. 1411(c), 1416(i), and 1418(c).

Applicable Regulations: (a) The Education Department General Administrative Regulations (EDGAR) in 34 CFR parts 74, 75, 77, 79, 80, 81, 82, 84, 97, 98, and 99. (b) The Education Department debarment and suspension regulations in 2 CFR part 3485. (c) The notice of final priority for this competition, published elsewhere in this issue of the Federal Register.

Note: The regulations in 34 CFR part 79 apply to all applicants except federally recognized Indian tribes.

Note: The regulations in 34 CFR part 86 apply to institutions of higher education (IHEs) only.

II. Award Information

Type of Award: Cooperative agreement.

Estimated Available Funds: $6,500,000.

Maximum Award: We will reject any application that proposes a budget exceeding $6,500,000 for a single budget period of 12 months. The Assistant Secretary for Special Education and Rehabilitation Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IDEA Part C State lead agencies; IHEs; other public agencies; private nonprofit organizations; outlying areas; freely associated States; Indian tribes or tribal organizations; and for-profit organizations.

2. Cost Sharing or Matching: This competition does not require cost sharing or matching.

3. Other: The project funded under this competition must make positive efforts to employ and advance in employment qualified individuals with disabilities (see section 606 of the IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA Number 84.373Y.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 100 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

3. Submission Dates and Times:

Applications Available: May 20, 2013.

Deadline for Transmittal of Applications: July 19, 2013.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 17, 2013.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications

Applications for grants under the National Technical Assistance Center to Improve State Capacity to Accurately Collect and Report IDEA Data, CFDA number 84.373Y, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Technical Assistance Center to Improve State Capacity to Accurately Collect and Report IDEA Data competition at www.Grants.gov. You must search for the downloadable application package for this competition by the CFDA number. Do not include the CFDA number's alpha suffix in your search (e.g., search for 84.373, not 84.373Y).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (a Department-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Richelle Davis, U.S. Department of Education, 400 Maryland Avenue SW., Room 4052, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.373Y), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.373Y), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of the IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR part 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an APR that provides the most current performance and financial expenditure information as directed by the Secretary under 34 CFR 75.118. The Secretary may also require more frequent performance reports under 34 CFR 75.720(c). For specific requirements on reporting, please go to www.ed.gov/fund/grant/apply/appforms/appforms.html.

4. Performance Measures: The goal of the Data Center is to provide TA that will improve the capacity of States to meet IDEA data collection and reporting requirements. Under the Government Performance and Results Act of 1993 (GPRA), the Department has established a set of performance measures, including long-term measures, that are designed to yield information on the effectiveness and quality of the Technical Assistance and Dissemination to Improve Services and Results for Children with Disabilities program. We are proposing to use the measures established for the Technical Assistance and Dissemination to Improve Services and Results for Children with Disabilities program to assess the performance of the Technical Assistance to Improve State Data Capacity program. See www2.ed.gov/fund/grant/apply/osep/funding.html. The Department will use these measures to assess the extent to which this program provides high-quality products and services, the relevance of project products and services to educational and early intervention policy and practice, and the usefulness of products and services to improve State data capacity to collect and report IDEA data. Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Richelle Davis, U.S. Department of Education, 400 Maryland Avenue SW., Room 4052, PCP, Washington, DC 20202-2600. Telephone: (202) 245-7401 or by email: richelle.davis@ed.gov.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 15, 2013.
Michael Yudin,
Delegated the authority to perform the functions and duties of the Assistant Secretary for Special Education and Rehabilitative Services.

[FR Doc. 2013-11967 Filed 5-17-13; 8:45 am]

BILLING CODE 4000-01-P